ENVIRONMENTAL PROTECTION AGENCY

40 CFR Part 52

[CA231-0227b; FRL-6571-1]

Approval and Promulgation of State Implementation Plans; California State Implementation Plan Revision, Antelope Valley Air Pollution Control District and Mojave Desert Air Quality Management District

AGENCY: Environmental Protection Agency (EPA).

ACTION: Proposed rule.

SUMMARY: EPA is proposing revisions to the California State Implementation Plan (SIP) which concern the control of volatile organic compound (VOC) emissions from Automotive Refinishing Operations and Motor Vehicle and Mobile Equipment Coatings Operations.

The intended effect of this action is to regulate emissions of VOCs in accordance with the requirements of the Clean Air Act, as amended in 1990 (CAA or the Act). In the Final Rules Section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by May 10, 2000.

ADDRESSES: Comments should be addressed to: Andrew Steckel, Rulemaking Office (AIR-4), Air Division, U.S. Environmental Protection Agency, Region IX, 75 Hawthorne Street, San Francisco, CA 94105-3901.

Copies of the rule revisions and EPA's technical support document for each rule are available for public inspection at EPA's Region 9 office during normal business hours. Copies of the submitted rule revisions are also available for inspection at the following locations:

California Air Resources Board, Stationary Source Division, Rule Evaluation Section, 2020 “L” Street, Sacramento, CA 95812;

Antelope Valley Air Pollution Control District, 43301 Division Street, Suite 206, Lancaster, CA 93539-4409;

Mojave Desert Air Quality Management District (formerly San Bernardino County Air Pollution Control District), 15428 Civic Drive, Suite 200, Victorville, CA 92392-2382.

FOR FURTHER INFORMATION CONTACT: Julie Rose, Rulemaking Office, (AIR-4), Air Division, U.S. Environmental Protection Agency, Region 9, 75 Hawthorne Street, San Francisco, CA 94105-3901, Telephone: (415) 744-1184.

SUPPLEMENTARY INFORMATION: This document concerns Antelope Valley Air Pollution Control District, Rule 1151, Motor Vehicle and Mobile Equipment Coatings Operations and Mojave Desert Air Quality Management District Rule 1116, Automotive Refinishing Operations. These rules were submitted by the California Air Resources Board to EPA on October 29, 1999 and July 23, 1999, respectively. For further information, please see the information provided in the direct final action that is located in the rules section of this Federal Register.

Dated: March 15, 2000.
Felicia Marcus,
Regional Administrator, Region IX.

[FR Doc. 00-8527 Filed 4-7-00; 8:45 am]

BILLING CODE 6560-50-P